SOCIAL SECURITY ADMINISTRATION

Agency Information Collection Activities: Proposed Request and Comment Request

The Social Security Administration (SSA) publishes a list of information collection packages that will require clearance by the Office of Management and Budget (OMB) in compliance with Pub. L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the OMB Desk Officer and the SSA Reports Clearance Officer and at the following addresses: (OMB), Office of Management and Budget, Attn: Desk Officer for SSA, New Executive Office Building, Room 10230, 725 17th St., NW, Washington, D.C. 20503; (SSA), Social Security Administration, DCFAM, Attn: Frederick W. Brickenkamp, 1-A-21 Operations Bldg., 6401 Security Blvd., Baltimore, MD 21235.

I. The information collections listed below will be submitted to OMB within 60 days from the date of this notice. Therefore, your comments should be submitted to SSA within 60 days from the date of this publication. You can obtain copies of the collection instruments by calling the SSA Reports Clearance Officer at 410-965-4145, or by writing to him at the address listed above.

1. Survey of Adults to Determine Public Understanding of Social Security Programs—0960-0612. As a result of the Government Performance and Results Act (GPRA), SSA must measure its progress in achieving Agency-level goals. One of SSA's strategic goals is to “Strengthen public understanding of Social Security programs.” In order to measure its performance in meeting this strategic objective, SSA established the Public Understanding Measurement System (PUMS) which involves surveying the public about their knowledge of Social Security programs. The Gallup Organization has been conducting PUMS surveys, on behalf of SSA, since fiscal year 1999.

For the next series of surveys, SSA has made some modifications to the PUMS survey process to bring it in compliance with its recent Agency Strategic Plan, Mastering the Challenge and plans to conduct 22,000 surveys beginning this fall as shown below:

• 1,000 national surveys will be used to determine the FY 2001 performance level; e.g., the percent of Americans knowledgeable about Social Security programs.

• 1,050 national surveys will be used to ensure that SSA has equal data for specific demographic groups (African Americans, Hispanic Americans, and Asian Americans) that have been underrepresented in previous national surveys. This data will be used to improve SSA's public education programs directed to these populations.

• 19,950 “area” surveys will provide area managers with statistically valid local GPRA performance data. This data will be used to measure local progress and to improve SSA public education programs in those areas. This will ensure that SSA's resources are used effectively and that it continues to make progress in meeting its strategic objective.

The respondents will be randomly selected adults residing in the United States.

| National surveys | Area surveys
Number of respondents | 2,050 | 19,950.
Frequency of response | 1 | 1.
Average burden per response | 10.5 min | 10.5 min.
Estimated annual burden | 359 hrs | 3,491 hrs.

2. Representative Payee Report—0960-0068. Sections 205(j) and 1631(a)(2) provide for the payment of Social Security and Supplemental Security Income benefits to a relative, another person or an organization (referred to as representative payee) when the best interests of the beneficiary would be served. These sections also provide that SSA monitor how the benefits were used. SSA uses forms SSA-623 and SSA-6230 to collect this information. SSA needs the information to determine whether the payments provided to the representative payee have been used for the beneficiary's current maintenance and personal needs and whether the representative payee continues to be concerned with the beneficiary's welfare. The respondents are representative payees designated to receive funds on behalf of Social Security and Supplemental Security Income recipients.

Number of Respondents: 5,527,755.

Frequency of Response: 1.

Average Burden Per Response: 15 minutes.

Estimated Annual Burden: 1,381,939 hours.

II. The information collections listed below have been submitted to OMB for clearance. Your comments on the information collections would be most useful if received by OMB and SSA within 30 days from the date of this publication. You can obtain a copy of the OMB clearance packages by calling the SSA Reports Clearance Officer on (410) 965-4145, or by writing to him at the address listed above.

1. Report of Student Beneficiary About to Attain Age 19—0960-0274. The information collected by the Social Security Administration (SSA) on form SSA-1390 is used to determine a student's eligibility for Social Security benefits for those attaining age 19. The affected public is comprised of student beneficiaries about to attain age 19.

Number of Respondents: 50,000.

Frequency of Response: 1.

Average Burden Per Response: 5 minutes.

Estimated Annual Burden: 4,167 hours.

2. Certificate of Coverage Request Form—0960-0554. The United States (U.S.) has Social Security agreements with 18 countries. These agreements eliminate double Social Security coverage and taxation where a period of work would be subject to coverage and taxes in both countries. The individual agreements contain rules for determining the country under whose laws the period of work will be covered and to whose system taxes will be paid. The agreements further provide that upon the request of the worker or employer, the country under whose system the period of work is covered will issue a certificate of coverage. The certificate serves as proof of exemption from coverage and taxation under the system of the other country. The information collected is needed to determine if a period of work is covered by the U.S. system under an agreement and to issue a certificate of coverage. The respondents are workers and employers wishing to establish an exemption from foreign Social Security taxes.

Number of Respondents: 40,000.

Frequency of Response: 1.

Average Burden Per Response: 30 minutes.

Estimated Annual Burden: 20,000 hours.

3. Medical Report (General)—0960-0052. The information collected on form SSA-3826-F4 is used by SSA to determine the claimant's physical status prior to making a disability determination and to document the disability claims folder with the medical evidence. The respondents are physicians, hospitals, directors and medical records librarians.

Number of Respondents: 750,000.

Frequency of Response: 1.

Average Burden Per Response: 30 minutes.

Estimated Annual Burden: 375,000 hours.

4. Representative Payee Evaluation Report—0960-0069. The information on form SSA-624 is used by SSA to accurately account for the use of Social Security benefits and Supplemental Security Income payments received by representative payees on behalf of an individual. The respondents are individuals and organizations, designated as representative payees, who received form SSA-623 or SSA-6230 and failed to respond, provided unacceptable responses that could not be resolved or reported a change in custody.

Number of Respondents: 250,000.

Frequency of Response: 1.

Average Burden Per Response: 30 minutes.

Estimated Average Burden: 125,000 hours.

Dated: July 18, 2001.
Frederick W. Brickenkamp,
Reports Clearance Officer.

[FR Doc. 01-18368 Filed 7-23-01; 8:45 am]

BILLING CODE 4191-02-U